DEPARTMENT OF TRANSPORTATION

Maritime Administration

Notice of Funding Opportunity for America's Marine Highway Projects

AGENCY: Maritime Administration, DOT.

ACTION: Notice of funding opportunity.

SUMMARY: The Consolidated Appropriations Act, 2018, signed by the President on March 23, 2018, appropriated $7,000,000 to the Short Sea Transportation Program, commonly referred to as the America's Marine Highway Program (AMHP). The purpose of the appropriation is to make grants to previously designated Marine Highway Projects that support the development and expansion of documented vessels, or of port and landside infrastructure. This notice announces the availability of funding for grants and establishes selection criteria and application requirements.

The Secretary of the U.S. Department of Transportation (Department) will award Marine Highway Grants to implement projects or components of projects previously designated by the Secretary of Transportation (Secretary) under AMHP. Only Marine Highway projects designated by the Secretary are eligible for funding as described in this notice.

DATES: Applications must be received by the Maritime Administration by 5 p.m. EDT on October 5, 2018.

ADDRESSES: Grant applications must be submitted electronically using Grants.gov (https://www.grants.gov). Please be aware that you must complete the Grants.gov registration process before submitting your application, and that the registration process usually takes 2 to 4 weeks to complete. Applicants are strongly encouraged to make submissions in advance of the deadline.

FOR FURTHER INFORMATION CONTACT: For further information concerning this Notice, please contact Tori Collins, Office of Ports & Waterways Planning, Room W21-315, Maritime Administration, U.S. Department of Transportation, 1200 New Jersey Ave. SE, Washington, DC 20590, phone 202-366-0795 or email Tori.Collins@dot.gov.

SUPPLEMENTARY INFORMATION: Each section of this Notice contains information and instructions relevant to the application process for these Marine Highway Grants, and all applicants should read this Notice in its entirety so that they have the information they need to submit eligible and competitive applications. Applications received after the deadline will not be considered except in the case of unforeseen technical difficulties as outlined below in Section D.4.

Table of Contents

A. Program Description

B. Federal Award Information

C. Eligibility Information

D. Application and Submission Information

E. Application Review Information

F. Federal Award Administration Information

G. Federal Awarding Agency Contacts

A. Program Description

Section 55601 of Title 46, United States Code, directs the Secretary to establish a short sea transportation grant program to implement projects or components of designated marine highway projects. The grant funds currently available are for projects related to documented vessels and to port and landside infrastructure.

B. Federal Award Information

The Secretary, through the Maritime Administration (MARAD), intends to award $6,790,000 through grants to the extent that there are qualified applications. MARAD will seek to obtain the maximum benefit from the available funding by awarding grants to as many qualified projects as possible; however, MARAD reserves the right to award all funds to just one project. MARAD may partially fund applications by selecting discrete components of projects. The start date and period of performance for each award will depend on the specific project to which MARAD must agree. MARAD will administer each Marine Highway Grant pursuant to a grant agreement with the Marine Highway Grant recipient.

Recipients of prior Marine Highway Grants in earlier rounds of this program may apply for funding to support additional phases of a designated project. However, to be competitive, the applicant should demonstrate the extent to which the previously funded project phase has met estimated project schedules and budget, as well as the ability to realize the benefits expected for the new award.

C. Eligibility Information

To be selected for a Marine Highway Grant, an applicant must be an Eligible Applicant, and the project must be an Eligible Project.

1. Eligible Applicants

Eligible grant applicants should be the original Project Applicant of a project that the Secretary has previously designated as a Marine Highway Project or a substitute (which can be either a public entity or a private-sector entity who has been referred to the Program Office, with written explanation, as part of the application). Grant applicants must have operations, or administrative areas of responsibility, that are adjacent to or near the relevant designated Marine Highway Project. Eligible grant applicants include State governments (including State departments of transportation), metropolitan planning organizations, port authorities, and tribal governments, or private sector operators of marine highway services within designated Marine Highway Projects.

Project applicants are encouraged to develop coalitions and public/private partnerships, which might include vessel owners and operators; third-party logistics providers; trucking companies; shippers; railroads; port authorities; state, regional, and local transportation planners; environmental organizations; impacted communities; or any combination of entities working in collaboration on a single grant application that can be submitted by the original project applicant or their designated substitute with written referral from the original project applicant. Original project applicants are defined as those public entities named by the Secretary in the original designated project. All successful grant applicants, whether they are public or private entities, must comply with all Federal requirements.

If multiple project applicants submit a joint grant application, they must identify a lead grant applicant as the primary point of contact. Joint grant applications must include a description of the roles and responsibilities of each applicant and must be signed by each applicant. Although we encourage a single award recipient, where circumstances require more than one award recipient, the application must identify the recipients of the award.

2. Cost Sharing or Matching

An applicant must provide at least 20 percent of project costs from non-Federal sources. The application should demonstrate, such as through a letter or other documentation, the sources of these funds. Preference will be given to those projects that provide a larger percentage of costs from non-Federal sources.

3. Other

Eligible Projects

The purpose of this grant program is to create new marine highway services or to expand existing marine highway services. Only projects or their components, including planning studies, that the Secretary has previously designated as Marine Highway Projects are eligible for this round of grant funding, and they must support the development and expansion of documented vessels or of port and landside infrastructure. The current list of designated Marine Highway Projects can be found on the Marine Highway website at: https://www.marad.dot.gov/wp-content/uploads/pdf/Click-here-for-Marine-Highway-Project-Designations-1.pdf.

D. Application and Submission Information

1. Address To Request Application Package

Applications may be found at and must be submitted through Grants.gov. Applications must include the Standard Form 424 (Application for Federal Assistance), which is available on the Grants.gov website at https://www.grants.gov/web/grants/forms/sf-424-family.html.

2. Content and Form of Application Submission

In addition to the SF-424, the application should include all the information requested below. MARAD reserves the right to ask any applicant for supplemental data but expects applications to be complete upon submission. Incomplete applications may not be considered for award. Applicants are strongly encouraged to provide quantitative information, including baseline information, that demonstrates the project's merits and economic viability.

a. Length of Application. The narrative portion of the application should be in the standard academic format (i.e., 12 pt. font, double-spaced) and must not exceed ten pages. Documentation supporting assertions made in the narrative portion must also be provided but should be limited to relevant information. Website links to supporting documentation may be provided instead of copies of these materials, though it is important to ensure that the website links are currently active and working. At the applicant's discretion, relevant materials provided previously in support of a Marine Highway Project application may be referenced, updated, or described as unchanged. To the extent referenced, this information need not be resubmitted in support of a Marine Highway Grant application.

b. First Page of Application Narrative. The first page of the narrative portion of the application should provide the following items of information:

(i) Marine Highway Project name (as stated on the Marine Highway Program's list of Designated Projects);

(ii) Primary point of contact for applicant;

(iii) Total amount of the project cost in dollars and the amount of grant funds the applicant is seeking, along with sources and share of matching funds;

(iv) Summary statement of how the grant funding will be applied;

(v) Project parties; and

(vi) Unique Entity Identifier (e.g., DUNS) number. Recipients of Marine Highway Grants and their first-tier sub-awardees must have Unique Entity Identifier numbers (https://fedgov.dnb.com/webform) and current registrations in the System for Award Management (https://www.SAM.gov).

c. Contact Information. An application must include the name, phone number, email address, and business address of the primary point of contact for the applicant. MARAD will use this information to inform applicants of our decision regarding selection of grant recipients, as well as to contact them if we need additional or supplemental information regarding an application.

d. Grant Funds and Sources and Uses of Project Funds. An application should include specific information about the amount of grant funding requested, sources and uses of all project funds, total project costs, the percentage of project costs that would be paid with Marine Highway Grant funds as well as from other Federal sources, and the identity and percentage shares of all parties providing funds for the project.

e. National Environmental Policy Act (NEPA) Requirement. Projects selected for grant award must comply with NEPA and any other applicable environmental laws. If the environmental review process is underway but not complete at the time of the application, the application must detail where the project is in the process, indicate the anticipated date of completion, and provide a website link or other reference to copies of any environmental documents prepared.

f. Other Federal, State, and Local Actions. An application must indicate whether the proposed project is likely to require actions by other agencies (e.g., permits or Buy America waivers), indicate the status of such actions, provide a website link or other reference to materials submitted to the other agencies, and demonstrate compliance with other Federal, state, or local regulations and permits as applicable.

g. Certification Requirements. For an application to be considered for a grant award, the Chief Executive Officer, or equivalent, of the applicant is required to certify, in writing, the following:

(i) That, except as noted in this grant application, nothing has changed from the original application for formal designation as a Marine Highway Project; and

(ii) The grant applicant will administer the project and any funds received will be spent efficiently and effectively; and

(iii) The grant applicant will provide information, data, and reports as required.

h. Protection of Confidential Commercial Information. Applicants should submit, as part of or in support of an application, publicly available data or data that can be made public and methodologies that are accepted by industry practice and standards to the extent possible. If the application includes information that the applicant considers to be a trade secret or confidential commercial or financial information, the applicant should do the following: (1) Note on the front cover that the submission contains “Confidential Commercial Information (CCI)”; (2) mark each affected page “CCI”; and (3) highlight or otherwise denote the CCI portions. MARAD will protect such information from disclosure to the extent allowed under applicable law. In the event MARAD receives a Freedom of Information Act (FOIA) request for the information, procedures described in the Department's FOIA regulation at 49 CFR 7.29 will be followed. Only information that is ultimately determined to be confidential under that procedure will be exempt from disclosure under FOIA.

i. Additional Application Information Needed From Private-Sector Applicants:

(i) Written referral from the original successful project applicant stating that the private entity has been referred by the original project applicant for the relevant designated Marine Highway Project.

(ii) A description of the entity including (A) location of the headquarters; (B) a description of the company assets (tugs, barges, etc.); (C) years in operation; (D) ownership; (E) customer base; and (F) website address, if any.

(iii) Unique entity identifier of parent company (when applicable): Data Universal Numbering System (DUNS + 4 number) (when applicable).

(iv) The most recent year-end audited, reviewed or compiled financial statements, prepared by a certified public accountant (CPA), per U.S. generally accepted accounting principles (not tax-based accounting financial statements). If CPA prepared financial statements are not available, provide the most recent financial statement for the entity. Do not provide tax returns.

(v) Statement regarding the relationship between applicants and any parents, subsidiaries or affiliates, if any such entity is going to provide a portion of the match.

(vi) Evidence documenting applicant's ability to make proposed matching requirement (loan agreement, commitment from investors, cash on balance sheet, etc.).

(vii) Pro-forma financial statements reflecting (a) financial condition beginning of period; (b) effect on balance sheet of grant and matching funds (e.g., a decrease in cash or increase in debt, additional equity and an increase in fixed assets); and (c) impact on company's projected financial condition (balance sheet) of completion of project, showing that company will have sufficient financial resources to remain in business.

(viii) Statement whether during the past five years, the applicant or any predecessor or related company has been in bankruptcy or in reorganization under Chapter 11 of the Bankruptcy Code, or in any insolvency or reorganization proceedings, and whether any substantial property of the applicant or any predecessor or related company has been acquired in any such proceeding or has been subject to foreclosure or receivership during such period. If so, give details.

(ix) Additional information may be requested as deemed necessary by the Maritime Administration to facilitate and complete its review of the application. If such information is not provided, the Maritime Administration may deem the application incomplete and cease processing it.

(x) Company Officer's certification of each of the following:

1. That the company operates in the geographic location of the designated Marine Highway Project;

2. That the applicant has the authority to carry out the proposed project:

3. That the applicant has not, and will not make any prohibited payments out of the requested grant, in accordance with the Department of Transportation's regulation restricting lobbying, 49 CFR part 20.

3. Unique Entity Identifier and System for Award Management (SAM)

MARAD will not make an award to an applicant until the applicant has complied with all applicable Unique Entity Identifier and SAM requirements. Each applicant must be registered in SAM before applying, provide a valid Unique Entity Identifier number in its application, and maintain an active SAM registration with current information throughout the period of the award. Applicants may register with the SAM at www.SAM.gov. Applicants can obtain a Unique Entity Identifier number at http://fedgov.dnb.com/webform. If an applicant has not fully complied with the requirements by the time MARAD is ready to make an award, MARAD may determine that the applicant is not qualified to receive a Federal award under this program.

4. Submission Dates and Times

Applications must be received by 5 p.m. EDT on October 5, 2018. Late applications that are the result of failure to register or comply with Grants.gov application requirements in a timely manner will not be considered. Applicants experiencing technical issues with Grants.gov that are beyond the applicant's control must contact MH@dot.gov or Tim Pickering at 202-366-0704 prior to the deadline with the user name of the registrant and details of the technical issue experienced. The applicant must provide: (1) Details of the technical issue experienced; (2) screen capture(s) of the technical issue experienced along with the corresponding “Grant tracking number” that is provided via Grants.gov; (3) the “Legal Name” for the applicant that was provided in the SF-424; (4) the name and contact information for the person to be contacted on matters involving submission that is included on the SF-424; (5) the Unique Entity Identifier number (e.g., DUNS) associated with the application; and (6) the Grants.gov Help Desk Tracking Number.

5. Funding Restrictions

MARAD will not allow reimbursement of any pre-Federal award costs that may have been incurred by an applicant.

Grant funds may only be used for the purposes described in 46 U.S.C. 55601(b)(1) and (3) and may not be used as an operating subsidy.

6. Other Submission Requirements

Grant applications must be submitted electronically using Grants.gov https://www.grants.gov).

E. Application Review Information

1. Selection Criteria

When reviewing grant applications, MARAD will consider how the proposed service could satisfy, in whole or in part, 46 U.S.C. 55601(b)(1) and (3) and any of the following criteria found at 46 U.S.C. 55601(g)(2)(B):

(i) The project is financially viable;

(ii) The funds received will be spent efficiently and effectively; and

(iii) A market exists for the services of the proposed project as evidenced by contracts or written statements of intent from potential customers.

After applying the above preferences, MARAD will consider the following key Departmental objectives:

(A) Supporting economic vitality at the national and regional level;

(B) Utilizing alternative funding sources and innovative financing models to attract non-Federal sources of infrastructure investment;

(C) Accounting for the life-cycle costs of the project to promote the state of good repair;

(D) Using innovative approaches to improve safety and expedite project delivery; and,

(E) Holding grant recipients accountable for their performance and achieving specific, measurable outcomes identified by grant applicants.

In awarding grants under the program, MARAD will give preference to those projects or components that present the most financially viable marine highway transportation services and require the lowest total percentage Federal share of the costs. MARAD will also give special consideration to projects which emphasize improved infrastructure condition, or facilitate economic or competitiveness in rural areas.

2. Review and Selection Process

Upon receipt, MARAD will evaluate the application using the criteria outlined above. Upon completion of the technical review, MARAD will forward the applications to a Department inter-agency review team (Intermodal Review Team). The Intermodal Review Team will include members of MARAD, other Operating Administrations, and representatives from the Office of the Secretary of Transportation. The Intermodal Review Team will assign ratings of “highly recommended,” “recommended,” “not recommended,” “incomplete,” or “not eligible” for each application based on the criteria set forth above. The Intermodal Review Team will provide their findings to the Program Office. The Program Office will use those findings to inform the recommendations that will be made to the Maritime Administrator and the Secretary.

3. FAPIIS Check

The Maritime Administration is required to review and consider any information about the applicant that is in the designated integrity and performance system accessible through SAM (currently FAPIIS) (see 41 U.S.C. 2313). An applicant, at its option, may review information in the designated integrity and performance systems accessible through SAM and comment on any information about itself that a Federal awarding agency previously entered and is currently in the designated integrity and performance system accessible through SAM. The Maritime Administration will consider any comments by the applicant, in addition to the other information in the designated integrity and performance system, in making a judgment about the applicant's integrity, business ethics, and record of performance under Federal awards when completing the review of risk posed by applicants.

F. Federal Award Administration Information

1. Federal Award Notices

Following the evaluation outlined in Section E, we will announce the selected grant award recipients on the MARAD website (https://www.marad.dot.gov).

2. Administrative and National Policy Requirements

All awards must be administered pursuant to the “Uniform Administrative Requirements, Cost Principles and Audit Requirements for Federal Awards” found at 2 CFR part 200, as adopted by the Department at 2 CFR part 1201. Additionally, all applicable Federal laws and regulations will apply to projects that receive Marine Highway Grants. The period following award that a project is expected to expend grant funds and start construction, acquisition, or procurement will be considered on a case-by-case basis and will be specified in the project-specific grant agreement. We reserve the right to revoke any award of Marine Highway Grant funds and to award such funds to another project to the extent that such funds are not expended in a timely or acceptable manner and in accordance with the project schedule. Federal wage rate requirements included at 40 U.S.C. 3141-3148 apply to all projects receiving funds under this program and apply to all parts of the project, whether funded with other Federal funds or non-Federal funds.

3. Reporting

Award recipients are required to submit quarterly reports, signed by an officer of the recipient, to the Program Office to keep MARAD informed of all activities during the reporting period. The reports will indicate progress made, planned activities for the next period, and a listing of any purchases made with grant funds during the reporting period. In addition, the report will include an explanation of any deviation from the projected budget and timeline. Quarterly status reports will also contain, at a minimum, the following: (1) A statement as to whether the award recipient has used the grant funds consistent with the terms contemplated in the grant agreement; (2) if applicable, a description of the budgeted activities not procured by recipient; (3) if applicable, the rationale for recipient's failure to execute the budgeted activities; (4) if applicable, an explanation as to how and when recipient intends to accomplish the purposes of the grant agreement; and (5) a budget summary showing funds expended since commencement, anticipated expenditures for the next reporting period, and expenditures compared to overall budget.

For all non-planning grants, grant award recipients will also collect information and report on the project's observed performance with respect to the relevant long-term outcomes that are expected to be achieved through the project. Performance indicators will not include formal goals or targets, but will include observed measures under baseline (pre-project) as well as post-implementation outcomes for an agreed-upon timeline, and will be used to evaluate and compare projects and monitor the results that grant funds achieve to the intended long-term outcomes of the AMHP. Performance reporting continues for several years after project construction is completed, and MARAD does not provide America's Marine Highway funding specifically for performance reporting.

4. Requirements for Domestic Content (“Buy American,” “Buy America,” and “Cargo Preference”)

Consistent with the requirements of section 410 of Title IV of Division L, Transportation, Housing and Urban Development, and Related Agencies Appropriations Act, 2018, of the Consolidated Appropriations Act, 2018 (Pub. L. 115-141), the Buy American requirements of Chapter 83 of Title 41 U.S.C. apply to funds made available under this Notice of Funding Opportunity. Depending on other funding streams, the project may be subject to “Buy America” requirements. If a project intends to use any product with foreign content or of foreign origin, this information should be listed and addressed in the application. If certain foreign content is granted an exception or waiver from Buy American or Buy America requirements, a Cargo Preference requirement may apply. Applications should expressly address how the applicant plans to comply with domestic-preference requirements and whether there are any potential foreign-content issues with their proposed project. In accord with the Executive Order 13788, applications that use grant funds for domestic-content purchases will be viewed favorably.

G. Federal Awarding Agency Contacts

For further information concerning this notice, please contact Tori Collins, Office of Ports & Waterways Planning, Room W21-315, Maritime Administration, U.S. Department of Transportation, 1200 New Jersey Ave. SE, Washington, DC 20590, phone 202-366-0795 or email Tori.Collins@dot.gov. To ensure applicants receive accurate information about eligibility, the program, or in response to other questions, applicants are encouraged to contact MARAD directly, rather than through intermediaries or third parties.

* * * * *

Dated: June 22, 2018.
By Order of the Maritime Administrator.
T. Mitchell Hudson, Jr.,
Secretary, Maritime Administration.

[FR Doc. 2018-13798 Filed 6-26-18; 8:45 am]

BILLING CODE 4910-81-P